DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Substance Abuse Prevention and Treatment Block Grant Regulations—45 CFR Part 96 (OMB No. 0930-0163; Extension, no change)

These regulations provide guidance to States regarding the Substance Abuse Prevention and Treatment Block Grant legislation, including the information collection requirements regarding the sale or distribution of tobacco products to individuals under age eighteen. The rule implements the reporting and recordkeeping requirements of 42 U.S.C. 300x21-35 and 51-64 by specifying the content of the States' annual reports on and application for block grant funds. The reporting burden hours are counted towards the total burden for the Substance Abuse Prevention and Treatment Block Grant Application Format (OMB No. 0930-0080) and the Substance Abuse Prevention and Treatment Block Grant Synar Report Format (OMB No. 0930-0222) for which separate approval is obtained. The total annual reporting and recordkeeping burden estimate is shown below:

45 CFR citation | Number of respondents ⁶ | Responses/respondent | Hours/response | Total hour burden
Reporting Burden
Annual Report:
96.122(d) ¹ | 60 | 1 | 0 | 0
96.122(f)(1)-(5)(iv); 96.126(f) | 60 | 1 | 152 | 9,120
96.122(f)(5)(v) ² | 59 | 1 | 2 | 118
96.122(f)(6) ³ | 0 | 0 | 0 | 0
96.130(e)(1-3) | 59 | 1 | 15 | 885
96.134(d) | 60 | 1 | 16 | 960
State Plan:
96.122(g) | 60 | 1 | 162 | 9,720
96.124(c)(1) | 60 | 1 | 40 | 2,400
96.127(b) | 60 | 1 | 8 | 480
96.130(e)(4,5) | 59 | 1 | 14 | 826
96.130(g) | 59 | 1 | 5 | 295
96.131(f) | 60 | 1 | 8 | 480
96.133(a) | 60 | 1 | 80 | 4,800
Waivers ⁴:
96.124(d) | 0 | 1 | 40 | 0
96.132(d) | 0 | 1 | 16 | 0
96.134(b) | 3 | 1 | 40 | 120
96.135(d) | 0 | 1 | 8 | 8
TOTAL Reporting Burden ⁵ | 60 | — | — | 30,206
Recordkeeping Burden
96.129(a)(13) | 60 | 1 | 16 | 960
¹ There was a one-time burden associated with change of the due date for the annual report effective with the FY 2001 application.
² This is a requirement to report on activities to implement SAMHSA's charitable choice legislation and regulations promulgated in September 2003 at 42 CFR part 54; information collection language for this requirement is approved under OMB control number 0930-0242.
³ This section describes Synar requirements for the first applicable year, which has passed for all States. Therefore, no burden is associated with this section.
⁴ The number of respondents per year for the waiver requests is based on actual experience over the past several years.
⁵ All reporting burden associated with the annual reports, state plan, and waivers is approved under OMB control numbers 0930-0080 and 0930-0242. Only the information collection language in the regulation and the recordkeeping burden are approved under OMB control number 0930-0163.
⁶ Synar reporting requirements do not pertain to the Red Lake Band of the Chippewa Indians of Minnesota and thus have 59 rather than 60 respondents.

Written comments and recommendations concerning the proposed information collection should be sent within 30 days of this notice to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 30, 2003.
Anna Marsh,
Acting Executive Officer, SAMHSA.

[FR Doc. 04-265 Filed 1-6-04; 8:45 am]

BILLING CODE 4162-20-P